DEPARTMENT OF EDUCATION

34 CFR Parts 600, 668, and 690

[Docket ID ED-2022-OPE-0062]

RIN 1840-AD54, 1840-AD55, 1840-AD66, 1840-AD69

Pell Grants for Prison Education Programs; Determining the Amount of Federal Education Assistance Funds Received by Institutions of Higher Education (90/10); Change in Ownership and Change in Control; Correction

AGENCY: Office of Postsecondary Education, Department of Education.

ACTION: Final regulations; correction.

SUMMARY: On October 28, 2022, the Department of Education (Department) published in the Federal Register final regulations for the Pell Grants for Prison Education Programs (PEPs). This document corrects those regulations by clarifying the requirements associated with an accrediting agency's review of a new PEP.

DATES: This correction is effective July 1, 2023.

FOR FURTHER INFORMATION CONTACT: Aaron Washington. Telephone: (202) 987-0911. Email Aaron.Washington@ed.gov.

If you are deaf, hard of hearing, or have a speech disability and wish to access telecommunications relay services, please dial 7-1-1.

SUPPLEMENTARY INFORMATION: On October 28, 2022, the Department published in the Federal Register final regulations that, among other things, establish requirements for postsecondary educational institutions to offer PEPs (87 FR 65426), effective July 1, 2023. The approval process for new PEPs under § 668.237(b) requires review by the postsecondary educational institution's accrediting agency. Specifically, under § 668.237(b)(4), the accrediting agency must have reviewed and approved the methodology for how the institution, in collaboration with the oversight entity, made the determination that the prison education program meets the same standards as substantially similar programs that are not prison education programs at the institution. Under § 668.236(a)(3), however, the oversight entity is not required to make this determination until two years after the initial PEP is approved to operate by the Department.

We are correcting § 668.237(b)(4) by adding the words “If the requirements of § 668.236(a)(3) are satisfied,” to make clear that, as part of its review of new PEPs, the accrediting agency reviews the referenced methodology only after the two-year period set forth in § 668.236(a)(3).

Correction

In FR Doc. 2022-23078, published in the Federal Register on October 28, 2022 (87 FR 65426), on page 65496, in the third column, in § 668.237, paragraph (b)(4) is corrected to read as follows:

§ 668.237 [Corrected]

* * * * *

(b) * * *

(4) If the requirements under § 668.236(a)(3) are satisfied, reviewed and approved the methodology for how the institution, in collaboration with the oversight entity, made the determination that the prison education program meets the same standards as substantially similar programs that are not prison education programs at the institution.

Accessible Format: On request to the contact person listed under FOR FURTHER INFORMATION CONTACT, individuals with disabilities can obtain this document in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Miguel A. Cardona,
Secretary of Education.

[FR Doc. 2023-06303 Filed 3-27-23; 8:45 am]

BILLING CODE 4000-01-P